DEPARTMENT OF TRANSPORTATION

Federal Highway Administration

Environmental Assessment(s) or Environmental Impact Statement(s): Cuyahoga County, City of Cleveland, Ohio

AGENCY: Federal Highway Administration (FHWA), DOT.

ACTION: Notice of intent.

SUMMARY: The FHWA is issuing this notice to advise the public that an environmental assessment(s) or environmental impact statement(s) will be prepared for a proposed project in the City of Cleveland in Cuyahoga County, Ohio.

FOR FURTHER INFORMATION CONTACT: Michael B. Armstrong, Urban Programs Engineer, Federal Highway Administration, 200 N. High Street, Room 328, Columbus, Ohio 43215, Telephone: (614) 280-6855.

SUPPLEMENTARY INFORMATION: The FHWA, in cooperation with the Ohio Department of Transportation (ODOT), will prepare an environmental assessment (EA) or environmental impact statement (EIS) on a proposal to reconstruct a portion of the Interstate Highway System, known as the Innerbelt, which travels through the City of Cleveland's CBD. Specifically, the proposed action is being considered from Interstate 71 and W. 25th Street, on the west, through the Interstate 90/490 interchange (where the existing alignment changes to Interstate 90) to Interstate 90 and Martin Luther King, Jr. Boulevard, on the East.

Reconstruction of this alignment is considered necessary to: provide for the infrastructure which is approaching the end of its useful life especially the 5,000 foot Interstate 90 Central Viaduct bridge; reduce congestion on the facility; improve substandard geometrics which result in high accident rates and operating inefficiencies; and improve access into and out of the Cleveland CBD, the Cuyahoga River Valley and the adjoining neighborhoods.

A wide range of alternatives will be considered including: (1) taking no action; (2) reconstruction within the existing right-of-way; (3) relocating portions of the facility on new alignment; and (4) multi-modal options. Alternatives 2, 3 and 4 have sub-alternatives that may involve (1) the redesign, closure or construction of new ramps or (2) construction of mitigating measures.

Letters describing the proposed action and soliciting comments will be sent to appropriate Federal, State, and local agencies, and to private organizations and citizens who have previously expressed or are known to have interest in this proposal. A series of public meetings will be held in the project area with a series already held during the Summer of 2001, a series currently scheduled the Fall of 2001, another series in the Winter/Spring of 2002 and an additional meeting in the Fall of 2002. In addition, a Public Hearing will be held. Public notice will be given of the time and place of the meetings and hearing. Project reports will be available throughout the study time frame and the EA(S) or Draft EIS(S) will be available for public and agency review and comment prior to the public hearing.

To ensure that the full range of issues related to this proposed action are addressed and all significant issues identified, comments and suggestions are invited from all interested parties. Comments or questions concerning this proposed action and the EA(S) or EIS(S) should be directed to FHWA at the address provided above.

(Catalog of Federal Domestic Assistance Program Number 20.205, Highway Planning and Construction. The regulations implementing Executive Order 12372 regarding intergovernmental consultation on Federal programs and activities apply to this program.)

Issued on: September 18, 2001.
Michael B. Armstrong,
Urban Programs Engineer, Federal Highway Administration, Columbus, Ohio.

[FR Doc. 01-24156 Filed 9-26-01; 8:45 am]

BILLING CODE 4910-22-P